DEPARTMENT OF HEALTH AND HUMAN SERVICES

Administration for Children and Families

Submission for OMB Review; Release of Unaccompanied Children From ORR Custody (OMB #0970-0552)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on revisions to an approved information collection. The request consists of several forms that allow the Unaccompanied Children (UC) Program to process release of UC from ORR custody and provide services after release.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: ORR received several comments on this information collection in response to the Federal Register Notice published on February 25, 2021, (86 FR 11536) and has provided responses to those comments in its final submission to OMB. UC Path is critical to program operations, and it is important that rollout of the new system not be delayed. Therefore, the below description details what will be included in the initial launch of the UC Path case management system, and revisions based on public comments will be made after initial launch. ORR plans to conduct a deliberative review of commenters' suggestions and concerns and submit a request for revisions to this information collection request in January 2022. The upcoming information collection request will also include revisions based on feedback from UC Path system users (i.e., ORR grantee, contractor, and federal staff).

A. ORR plans to revise all four instruments currently approved under OMB #0970-0552 and reinstate one instrument previously approved under OMB #0970-0498 and add it to this collection. All instruments will be incorporated into ORR's new case management system, UC Path. In addition, ORR plans to replace the term “unaccompanied alien child (UAC)” with “unaccompanied child (UC)” throughout the instruments in this collection.

1. Verification of Release (Form R-1): This instrument is an official document provided to UC and their sponsors by care provider facilities showing that ORR released the UC into the sponsor's care and custody. This form was previously approved under OMB #0970-0498 and is being reinstated with formatting changes under this new OMB number. No changes were made to the content. The average burden minutes per response was increased from 3 to 10 minutes.

2. Discharge Notification (Form R-2): This instrument is used by care provider facilities to notify stakeholders of the transfer of a UC to another care provider facility or the release of a UC from ORR custody. ORR made the following revisions:

a. The “Proof of Relationship” field was removed because that information is found elsewhere in UC Path and does not need to be displayed in this instrument.

b. The following fields were added: “Returning UC, Entry #,” “Type of Age Out,” “Sponsor Category,” “Next Immigration Hearing,” “Granted Voluntary Discharge Date,” “Parent/Legal Guardian Separation,” “Is this a MPP Case,” “UC Parent Name,” “Program Type.”

c. The “Local Law Enforcement” and “DHS Family Shelter” fields were replaced with the “Governmental Agency” and “Name of Government Agency” fields.

d. The following fields were added, but are not visible on version of the instrument sent to stakeholders:

i. “Discharge Delay,” “DHS Age Out Plan,” “Referral to Services in COO,” “Completed Referral Services COO?,” “Date Travel Document Requested,” “Date of Issuance of Travel Document”; and

ii. All fields in the “Transportation Details” section.

3. ORR Release Notification—Notice to Immigration and Customs Enforcement (ICE) Chief Counsel—Release of Unaccompanied Child to Sponsor and Request to Change Address (Form R-3): This instrument is used by care provider facilities to notify ICE Chief Counsel of the release of a UC and request a change of address. The instrument was reformatted. No changes were made to the content.

4. Release Request (Form R-4): This instrument is used by care provider facilities, ORR contractor staff, and ORR federal staff to process recommendations and decisions for release of a UC from ORR custody. ORR made the following revisions:

a. The instrument was reformatted and the titles of some fields were reworded.

b. Several fields containing biographical information for the UC were removed from the top of the instrument.

c. The “Provide details on relationship including official documentation” text box was removed because that information is easily accessible elsewhere in UC Path.

d. Several fields related to release dates and immigration court appearance were removed because they are easily accessible elsewhere in UC Path.

e. A new section called “Release Request Routing” was added to facilitate automated notification of pending releases within UC Path. Some fields in this section are auto-populated.

f. A new “Child Advocates” section was added, containing two fields.

g. A new “Medical” section was added to facilitate automated notification to the ORR medical coordinator, when applicable. The section contains two fields.

h. A new “Legal” section was added. All fields in this section are auto-populated with the exception of the comments field.

i. A new “Program Information” section was added to capture relevant details when a UC is being release to a program/entity.

j. In the “Case Manager Recommendation” section, a couple of auto-populated date fields were added.

5. Safety and Well-Being Call (Form R-6): This instrument is used by care provider facilities to document the outcome of calls made to UC and their sponsors after release to ensure the child is safe and refer the sponsor to additional resources as needed. Currently, case managers document responses from the sponsor and UC interview questions (required per ORR procedures) in their case management notes. ORR expanded this instrument to include the information currently captured in case management notes, in addition to the information captured in the current version of the Safety and Well-Being Follow-Up Call Report. The average burden minutes per response was increased from 30 to 45 minutes.

B. ORR plans to remove the term “alien” from the title of this information collection and revise it to read “Release of Unaccompanied Children from ORR Custody.”

C. ORR intends to conduct a phased rollout of the UC Path system. Beginning fall 2021, ORR plans to roll the UC Path system out to a small group of care provider programs. ORR will gradually expand use of the system to other programs and expects all care provider programs will be using UC Path by spring 2022. To ensure continuity of operations, care provider programs will need the ability to continue using instruments in the UC Portal system and in other formats (e.g., PDF, Excel) while they are waiting to transition over to the UC Path system. Therefore, ORR proposes continued use of the following instruments, concurrently with the UC Path versions of the same instruments, until all care provider programs are using UC Path.

1. Verification of Release (Form R-1)

2. Discharge Notification (Form R-2)

3. Notice to Immigration and Customs Enforcement's (ICE) Chief Counsel—Release of Unaccompanied Child to Sponsor and Request to Change Address (Form R-3)

4. Release Request (Form R-4)

5. Safety and Well-Being Follow-Up Call Report (Form R-6)

Respondents: ORR grantee and contractor staff and released children and sponsors.

Annual Burden Estimates
Instrument | Annual number of respondents | Annual number of responses per respondent | Average burden minutes per response | Annual total burden hours
Verification of Release (Form R-1) | 216 | 253 | 10 | 9,108
Discharge Notification (Form R-2) | 216 | 290 | 10 | 10,440
ORR Release Notification—ORR Notification to ICE Chief Counsel Release of UC to Sponsor and Request to Change Address (Form R-3) | 216 | 270 | 5 | 4,860
Release Request (Form R-4)—Grantee Case Managers | 216 | 254 | 25 | 22,860
Release Request (Form R-4)—Contractor Case Coordinators | 170 | 321 | 20 | 18,190
Safety and Well-Being Call (R-6) | 216 | 253 | 45 | 40,986
Estimated Annual Burden Hours Total |  |  |  | 106,444

Authority: 6 U.S.C. 279; 8 U.S.C. 1232; Flores v. Reno Settlement Agreement, No. CV85-4544-RJK (C.D. Cal. 1996).

Mary B. Jones,
ACF/OPRE Certifying Officer.

[FR Doc. 2021-21281 Filed 9-29-21; 8:45 am]

BILLING CODE 4184-45-P